DEPARTMENT OF COMMERCE

Submission for OMB Review; Comment Request

The Department of Commerce will submit to the Office of Management and Budget (OMB) for clearance the following proposal for collection of information under the provisions of the Paperwork Reduction Act.

Agency: U.S. Census Bureau.

Title: 2018 Survey of Compact of Free Association (COFA) Migrants.

OMB Control Number: 0607-XXXX.

Form Number(s): COFA-I (2018); COFA-RI (2018); COFA-FAQ (2018); COFA-NOV (2018); COFA-RL (2018); COFA-ARC (2018).

Type of Request: Regular submission.

Number of Respondents: 7100.

Average Hours per Response: 0.333.

Burden Hours: 2,449.

Needs and Uses: The Compact of Free Association (COFA) is a joint congressional-executive agreement that states that the United States will provide funds to Guam, CNMI, Hawaii, and American Samoa for a range of development programs and other benefits that are necessary due to the in-migration of citizens from the Republic of the Marshall Islands, the Federated States of Micronesia, and the Republic of Palau. The COFA Amendments Act of 2003 stipulates that $30,000,000 will be made available annually for grants to help defray the costs to jurisdictions whose health, educational, social, or public safety services are affected by the increase in COFA migrants from the Republic of the Marshall Islands, the Federated States of Micronesia, and the Republic of Palau. The COFA Amendments Act of 2003 requires that an enumeration of COFA migrants be conducted no less frequently than every five years in Guam, CNMI, Hawaii, and American Samoa to assist in the distribution of the funds.

The proposed survey will collect data on place of birth, age, date of birth, sex, marital status, and year of entry for COFA migrants residing in Guam and CNMI. Only questions pertaining to the needs of the legislation will be asked. The questionnaire content and data collection procedures will generally follow the American Community Survey (ACS) and Census 2010 procedures. Since data can be obtained for Hawaii from the ACS, it is not cost-effective to include Hawaii in the 2018 Survey of Compact of Free Association (COFA) Migrants. Because it would be cost prohibitive to design a survey resulting in reliable estimates of the small number of COFA migrants in American Samoa, the estimate for this area will be derived from existing Census 2010 data.

Affected Public: Residents of Guam and the Commonwealth of the Northern Mariana Islands.

Frequency: One time.

Respondent's Obligation: Voluntary.

Legal Authority: Title 13 U.S.C. Section 8(b) and Public Law 108-188, The Compact of Free Association Amendments Act of 2003.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Department Lead, Office of the Chief Information Officer.

[FR Doc. 2018-04928 Filed 3-9-18; 8:45 am]

BILLING CODE 3510-07-P